SMALL BUSINESS ADMINISTRATION

[Disaster Declaration #20985 and #20986; KENTUCKY Disaster Number KY-20016]

Presidential Declaration Amendment of a Major Disaster for Public Assistance Only for the Commonwealth of Kentucky

AGENCY: U.S. Small Business Administration.

ACTION: Amendment 5.

SUMMARY: This is an amendment of the Presidential declaration of a major disaster for Public Assistance Only for the Commonwealth of Kentucky (FEMA-4860-DR), dated March 4, 2025.

Incident: Severe Storms, Straight-line Winds, Flooding, Landslides, and Mudslides.

DATES: Issued on April 9, 2025.

Incident Period: February 14, 2025 through March 7, 2025.

Physical Loan Application Deadline Date: May 5, 2025.

Economic Injury (EIDL) Loan Application Deadline Date: December 4, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Kentucky, dated March 4, 2025, is hereby amended to include the following areas as adversely affected by the disaster.

Primary Counties: Laurel, McCreary.

All other information in the original declaration remains unchanged.

(Catalog of Federal Domestic Assistance Number 59008)

James Stallings,
Associate Administrator, Office of Disaster Recovery & Resilience.

[FR Doc. 2025-06455 Filed 4-15-25; 8:45 am]

BILLING CODE 8026-09-P